ENVIRONMENTAL PROTECTION AGENCY

[FRL-6943-8]

Transfer of Confidential Business Information to EPA Contractors

AGENCY: Environmental Protection Agency.

ACTION: Notice of transfer of confidential business information to agency contractors and request for comments.

SUMMARY: EPA will transfer to its contractors: Booz-Allen and Hamilton, Inc., TechLaw, Inc., and Tetra Tech EM Inc. Confidential Business Information (CBI) that has been or will be submitted to EPA under Section 3007 of the Resource Conservation and Recovery Act (RCRA). The Agency will transfer CBI to the following subcontractors of these firms: AGEISS, Home Engineering Services, Inc., Trinity Consultants, ICF, Inc., TRC, Inc., Metcalf and Eddy, ERG, MNG, Inc., EnRisk, Inc., TN Associates, CDM Federal Programs Corp., Parallax, Inc., Wendy Lopez & Associates, Inc., REDHORSE, Charles Consulting, ISSI, Tetra Tech NUS, DPRA, Inc., Morson Environmental Consulting, Inc., Ross & Associates Environmental Consulting, Ltd., Quanterra Incorporated. Under RCRA, EPA is involved in activities to support, expand and implement solid and hazardous waste regulations.

DATES: Transfer of confidential business data will occur no sooner than February 26, 2001.

FOR FURTHER INFORMATION CONTACT: Regina Magbie, Office of Solid Waste (5305W), U.S. Environmental Protection Agency, Ariel Rios Building, 1200 Pennsylvania Avenue, NW., Washington, DC 20460, 703-308-7909.

SUPPLEMENTARY INFORMATION:

1. Transfer of Confidential Business Information

Under EPA Contract numbers 68-W-99-020, 68-W-99-021, 68-W-99-017, 68-W-99-018, 68-W-99-008, and 68-W-99-009. Booz-Allen and Hamilton, TechLaw and Tetra Tech, and their subcontractors, will assist the EPA Regional Offices (I-X) by providing technical assistance and services which support EPA's RCRA enforcement and permitting activities, such as sampling, corrective action oversight, technical review of documents, and special studies.

In accordance with 40 CFR 2.305(h) (see 42 U.S.C. 6927(b)), EPA has determined that Booz-Allen and Hamilton, TechLaw and Tetra Tech, and their subcontractors require access to CBI submitted to EPA under the authority of RCRA to perform work satisfactorily under the above-noted contract. EPA is submitting this notice to inform all submitters of CBI of EPA's intent to transfer CBI to these firms on a need-to-know basis. Upon completing its review of materials submitted, Booz-Allen and Hamilton, TechLaw and Tetra Tech, and their subcontractors will return all CBI to EPA.

Prior to the transfer of any RCRA CBI, Booz-Allen and Hamilton, TechLaw and Tetra Tech, and their subcontractors will receive authorization for access to RCRA CBI under the EPA “Contractor Requirements for the Control and Security of RCRA Confidential Business Information Security Manual. “EPA will review and approve the security plans of Booz-Allen and Hamilton, TechLaw and Tetra Tech, and their subcontractors. Contractor and subcontractor personnel will sign non-disclosure agreements and be briefed on appropriate security procedures before they are permitted access to CBI.

Dated: February 1, 2001.
Elizabeth A. Cotsworth,
Director, Office of Solid Waste.

[FR Doc. 01-3732 Filed 2-13-01; 8:45 am]

BILLING CODE 6560-50-P